NATIONAL CREDIT UNION ADMINISTRATION

Sunshine Act Meetings; Notice of a Matter To Be Added to the Agenda for Consideration at an Agency Meeting

FEDERAL REGISTER CITATION OF PREVIOUS ANNOUNCEMENT: March 9, 2018 (83 FR 10526).

TIME AND DATE: 1:30 p.m., Wednesday, March 14, 2018.

PLACE: Board Room, 7th Floor, Room 7047; 1775 Duke Street, Alexandria, VA 22314-3428.

STATUS: Closed.

Pursuant to the provisions of the “Government in Sunshine Act” notice is hereby given that the NCUA Board gave notice on March 9, 2018 (83 FR 10526) of the closed meeting of the NCUA Board scheduled for March 14, 2018. Prior to the meeting, on March 12, 2018, the NCUA Board unanimously determined that agency business required the addition of a second item on the agenda with less than seven days' notice to the public, and that no earlier notice of the addition was possible.

MATTER TO BE ADDED:

2. Supervisory Action. Closed pursuant to Exemptions (8), (9)(i)(B), and (9)(ii).

FOR FURTHER INFORMATION CONTACT: Gerard Poliquin, Secretary of the Board, Telephone: 703-518-6304.

Gerard Poliquin,
Secretary of the Board.

[FR Doc. 2018-05353 Filed 3-13-18; 11:15 am]

BILLING CODE 7535-01-P